DEPARTMENT OF COMMERCE

International Trade Administration

[A-570-863]

Notice of Extension of Time Limit of Final Results of New Shipper Review: Honey From the People's Republic of China

AGENCY: Import Administration, International Trade Administration, Department of Commerce.

ACTION: Notice of extension of time limit of final results of antidumping Duty New Shipper Review.

SUMMARY: The Department of Commerce is extending the time limit of the final results of the new shipper review of the antidumping duty order on honey from the People's Republic of China until no later than April 26, 2004. The period of review is February 10, 2001 through November 30, 2002. This extension is made pursuant to section 751(a)(2)(B)(iv) of the Tariff Act of 1930, as amended.

EFFECTIVE DATE: April 14, 2004.

FOR FURTHER INFORMATION CONTACT: Brandon Farlander at (202) 482-0182 or Dena Aliadinov at (202) 482-3362; Antidumping and Countervailing Duty Enforcement Group III, Office Eight, Import Administration, International Trade Administration, U.S. Department of Commerce, 14th Street and Constitution Avenue NW., Washington, DC 20230.

SUPPLEMENTARY INFORMATION:

Statutory Time Limits

Section 751(a)(2)(B)(iv) of the Act requires the Department to issue the final results of a new shipper review within 90 days after the date on which the preliminary results were issued. However, if the Department determines the issues are extraordinarily complicated, section 751(a)(2)(B)(iv) of the Act allows the Department to extend the deadline for the final results to up to 150 days after the date on which the preliminary results were issued.

Background

On December 31, 2002, the Department received properly filed requests from Shanghai Xiuwei International Trading Co., Ltd. (“Shanghai Xiuwei”) and Sichuan-Dujiangyan Dubao Bee Industrial Co., Ltd. (“Sichuan Dubao”), in accordance with section 751(a)(2)(B) of the Act and section 351.214(c) of the Department's regulations, for a new shipper review of the antidumping duty order on honey from the People's Republic of China (PRC), which has a December anniversary date, and a June semiannual anniversary date. Shanghai Xiuwei identified itself as an exporter of processed honey produced by its supplier, Henan Oriental Bee Products Co., Ltd. (“Henan Oriental”). Sichuan Dubao identified itself as the producer of the processed honey that it exports.

On February 5, 2003, the Department initiated this new shipper review for the period February 10, 2001 through November 30, 2002. See Honey from the People's Republic of China: Initiation of New Shipper Antidumping Duty Reviews (68 FR 5868, February 5, 2003). On July 21, 2003, the Department extended the preliminary results of this new shipper review by 180 days until November 26, 2003. See Honey from the People's Republic of China: Extension of Time Limits for Preliminary Results of New Shipper Antidumping Duty Review, 68 FR 43086 (July 21, 2003). On December 4, 2003, the Department published its preliminary results of this review. See Notice of Preliminary Results of Antidumping Duty New Shipper Review: Honey from the People's Republic of China, 68 FR 67832 (December 4, 2003) (Preliminary Results). In the preliminary results of this review, we indicated that we were unable to complete our analysis of all factors relevant to the bona fides of Shanghai Xiuwei's and Sichuan Dubao's U.S. sales. We described our research and contact efforts in the Memorandum from Brandon Farlander and Dena Aliadinov to the File, dated November 26, 2003. We also indicated that additional time was needed to research the appropriate surrogate values to value raw honey. On February 25, 2004, the Department extended the final results of this new shipper review 30 days until March 25, 2004. See Notice of Extension of Time Limit of Final Results of New Shipper Review: Honey from the People's Republic of China, 69 FR 8625 (February 25, 2004). On March 31, 2004, the Department extended the final results of this new shipper review by an additional 14 days until April 8, 2004. See Notice of Extension of Time Limit of Final Results of New Shipper Review: Honey from the People's Republic of China, 69 FR 16892 (March 31, 2004).

Extension of Time Limits for Preliminary Results

Pursuant to section 751(a)(2)(B)(iv) of the Act, the Department may extend the deadline for completion of the final results of a new shipper review by 60 days if it determines that the case is extraordinarily complicated. The Department has determined that this case is extraordinarily complicated because of the issues pertaining to the bona fides of Shanghai Xiuwei's and Sichuan Dubao's U.S. sales. Therefore, in accordance with section 751(a)(2)(B)(iv) of the Act and section 351.214(i)(2) of the regulations, the Department is extending the time limit for the completion of the final results by an additional 16 days. The final results will now be due no later than April 26, 2004.

This notice is published pursuant to sections 751(a)(2)(B) and 777(i)(1) of the Act.

Dated: April 8, 2004.
Joseph A. Spetrini,
Deputy Assistant Secretary for Import Administration, Group III.

[FR Doc. 04-8480 Filed 4-13-04; 8:45 am]

BILLING CODE 3510-DS-P